ENVIRONMENTAL PROTECTION AGENCY

[EPA-HQ-OAR-2013-0711; FRL-10000-16-OMS]

Information Collection Request Submitted to OMB for Review and Approval; Comment Request; Data Requirements Rule for the 1-Hour Sulfur Dioxide Primary National Ambient Air Quality Standard (Renewal)

AGENCY: Environmental Protection Agency (EPA).

ACTION: Notice.

SUMMARY: The Environmental Protection Agency (EPA) has submitted a renewal of an information collection request (ICR), Data Requirements Rule for the 1-Hour Sulfur Dioxide Primary National Ambient Air Quality Standard (EPA ICR Number 2495.03, Office of Management and Budget (OMB) Control Number 2060-0696) to OMB for review and approval in accordance with the Paperwork Reduction Act (PRA). This is a proposed extension of the existing ICR for the Data Requirements Rule for the 1-Hour Sulfur Dioxide Primary NAAQS (SO2 Data Requirements Rule), which is currently approved through September 30, 2019. Public comments were previously requested via the Federal Register on July 12, 2019, during a 60-day comment period. This notice allows for an additional 30 days for public comments. A fuller description of the proposed ICR renewal is given below, including the estimated burden and cost to respondents to meet the requirements of the SO2 Data Requirements Rule. An agency may not conduct or sponsor, and a person is not required to respond to a collection of information, unless it displays a currently valid OMB control number.

DATES: Comments must be submitted on or before October 28, 2019.

ADDRESSES: Submit your comments, identified by Docket ID No. EPA-HQ-OAR-2013-0711, at http://www.regulations.gov. Follow the online instructions for submitting comments. Once submitted, comments cannot be edited or removed from Regulations.gov. The EPA may publish any comment received to its public docket. Do not submit electronically any information you consider to be Confidential Business Information (CBI) or other information the disclosure of which is restricted by statute. Multimedia submissions (audio, video, etc.) must be accompanied by a written comment. The written comment is considered to be the official comment and should include discussion of all points you wish to make. The EPA will generally not consider comments or comment contents located outside of the primary submission (i.e. on the web, cloud, or other file sharing system). For additional submission methods, the full EPA public comment policy, information about CBI or multimedia submissions, and general guidance on making effective comments, please visit https://www.epa.gov/dockets/commenting-epa-dockets.

FOR FURTHER INFORMATION CONTACT: Dr. Larry D. Wallace, Office of Air Quality Planning and Standards, Air Quality Policy Division, C504-05, U.S. Environmental Protection Agency, Research Triangle Park, NC; telephone number: (919) 541-0906; fax number: (919) 541-5509; email address: wallace.larry@epa.gov.

SUPPLEMENTARY INFORMATION: Supporting documents, which explain in detail the information that the EPA will be collecting, are available in the public docket for this ICR. The docket can be viewed online at www.regulations.gov or in person at the EPA Docket Center, WJC West, Room 3334, 1301 Constitution Avenue NW, Washington, DC. The telephone number for the Docket Center is (202) 566-1744. For additional information about the EPA's public docket, visit http://www.epa.gov/dockets.

Abstract: This ICR addresses reporting and recordkeeping activity defined by the final Data Requirements for the 2010 1-Hour Sulfur dioxide (SO2) Primary National Ambient Air Quality Standards rule (SO2 Data Requirements Rule) (See 80 FR 51052, August 21, 2015).

Through the SO2 Data Requirements Rule and the initial ICR, EPA required states to characterize ambient air quality around SO2 sources with emissions that were greater than 2,000 tons per year (tpy) or that were otherwise included as a listed source. In this ICR, EPA addresses ongoing requirements that apply to listed sources for which air agencies chose the monitoring pathway as well as sources for which air agencies chose the modeling pathway. The number of listed sources for which air agencies chose the monitoring pathway, and thus are required to submit ongoing monitoring information, are 73 sources in 24 states (77 monitors total). The number of listed sources for which air agencies chose the modeling pathway that are required to submit ongoing data reports, and, potentially, updated modeling, are 170 sources in 43 states.

Air quality management agencies that elected to conduct ambient monitoring for listed DRR sources are responsible for reporting ambient air quality data information and retaining quality assurance/quality control records and monitoring network documentation. Where possible these activities are carried-out electronically using EPA's Air Quality System (AQS).

Air quality management agencies that elected to conduct air quality modeling of the areas containing listed DRR sources to provide the necessary air quality data to EPA are responsible for submitting ongoing data reports. If EPA requires that the air agency conduct updated air quality modeling for the area, the air agency has 12 months to submit the updated modeling to EPA.

Form Numbers: None.

Respondents/affected entities: State, local and tribal air pollution management control agencies.

Respondent's obligation to respond: Mandatory (40 CFR part 51).

Estimated number of respondents: 24 states or local agencies for monitoring, and 43 states or local agencies for modeling.

Frequency of response: Varies by requirement. Quarterly for monitoring data and annually for ongoing data verification reporting.

Total estimated burden: 26,948 hours (per year) for monitoring (specific hours for modeling not estimated, but labor costs are included in the estimated cost for modeling below). Burden is defined at 5 CFR 1320.03(b).

Total estimated cost: $2,539,815 (per year) for monitoring, includes $189,246 annualized capital or operation and maintenance costs for monitoring, and $5,100,000 (per year) for modeling.

Changes in Estimates: The revisions in the monitoring and modeling burden result, in large part, from EPA having resolved uncertainty that inflated calculations in the previous ICR. While that ICR calculated burden for both the monitoring and the modeling scenarios assuming each one would be used by all possible sources, EPA now has the ability to know how many sources will be using one approach or the other. Further adjustments to this ICR's burden estimates result for EPA having more accurately expressed the split between labor and non-labor costs used for the modeling scenario.

Courtney Kerwin,
Director, Collection Strategies Division.

[FR Doc. 2019-20954 Filed 9-25-19; 8:45 am]

BILLING CODE 6560-50-P